SECURITIES AND EXCHANGE COMMISSION

[File No. 500-1]

Enterprises Solutions, Inc.; Order of Suspension of Trading

March 30, 2000.

It appears to the Securities and Exchange Commission that there is a lack of current and accurate information concerning the securities of Enterprises Solutions, Inc., trading under the stock symbol EPSO.OB. Questions have been raised concerning the accuracy and completeness of assertions made by Enterprises Solutions, Inc. in its filings with the Commission, in its recent press releases, and on its Internet website, including questions about the identity of persons in control of the operations and management of the company.

The Commission is of the opinion that the public interest and the protection of investors require a suspension of trading in the securities of the above-listed company.

Therefore, it is ordered, pursuant to Section 12(k) of the Securities Exchange Act of 1934, that trading in the above listed company is suspended for the period from 9:30 a.m. EST, March 30, 2000 through 11:59 p.m. EDT, on April 12, 2000.

By the Commission.
Margaret H. McFarland,
Deputy Secretary.

[FR Doc. 00-8225 Filed 3-30-00; 11:54 am]

BILLING CODE 8010-01-M